DEPARTMENT OF THE INTERIOR

National Park Service

[NPS-WASO-NAGPRA-21332; PPWOCRADN0-PCU00RP14.R50000]

Notice of Inventory Completion: University of Pennsylvania Museum of Archaeology and Anthropology, Philadelphia, PA; Correction

AGENCY: National Park Service, Interior.

ACTION: Notice; correction.

SUMMARY: The University of Pennsylvania Museum of Archaeology and Anthropology has corrected a Notice of Inventory Completion published in the Federal Register on June 8, 2016. This notice adds accession numbers to the description of the human remains and adds two Indian tribes to be notified of the publication.

ADDRESSES: Dr. Julian Siggers, University of Pennsylvania Museum of Archaeology and Anthropology, 3260 South Street, Philadelphia, PA 19104, telephone (215) 898-4050.

SUPPLEMENTARY INFORMATION: Notice is here given in accordance with the Native American Graves Protection and Repatriation Act (NAGPRA), 25 U.S.C. 3003, of the correction of a Notice of Inventory Completion for human remains under the control of the University of Pennsylvania Museum of Archaeology and Anthropology, Philadelphia, PA. The human remains were removed from an unknown site in Wayne County, MI, and Cuyahoga County, OH.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the description of the human remains and the Indian tribes to be notified of publication in a Notice of Inventory Completion published in the Federal Register (81 FR 36952, June 8, 2016). Transfer of control of the items in this correction notice has not occurred.

Correction

In the Federal Register (81 FR 36953, June 8, 2016), column 2, paragraph 2, sentence 1 is corrected by substituting the following sentence:

In1844, human remains representing, at minimum, two individuals (UPM# 97-606-1217; UPM#97-606-1218) were removed by Lt. Montgomery C. Meigs from an unknown Mound site in Wayne County, MI.

In the Federal Register (81 FR 36953, June 8, 2016), column 2, paragraph 3, sentence 1 is corrected by substituting the following sentence:

At an unknown date prior to 1839, human remains representing, at minimum, one individual (UPM#97-606-607) were removed by Dr. George Mendenhall from an unknown site in Cuyahoga County, OH, and were sent to Samuel G. Morton for inclusion in his collection of human crania from around the world prior to 1846.

In the Federal Register (81 FR 36953, June 8, 2016), column 2, paragraph 4, sentence 1 is corrected by substituting the following sentence:

At an unknown date prior to 1839, human remains representing, at minimum, one individual (UPM# 97-606-15) were removed by Dr. Sturum from an unknown location near Detroit, Wayne County, MI.

In the Federal Register (81 FR 36954, June 8, 2016), column 1, paragraph 1, sentence 1 is corrected by substituting the following sentence:

The University of Pennsylvania Museum of Archaeology and Anthropology is responsible for notifying the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Pottawatomi, Michigan (previously listed as the Huron Potawatomi, Inc.); Pokagon Band of Potawatomi Indians, Michigan and Indiana; Saginaw Chippewa Indian Tribe of Michigan; Sault Ste. Marie Tribe of Chippewa Indians, Michigan; and the Wyandotte Nation, that this notice has been published.

The University of Pennsylvania Museum of Archaeology and Anthropology is responsible for notifying the Bay Mills Indian Community, Michigan; Grand Traverse Band of Ottawa and Chippewa Indians, Michigan; Hannahville Indian Community, Michigan; Keweenaw Bay Indian Community, Michigan; Lac Vieux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Pottawatomi, Michigan (previously listed as the Huron Potawatomi, Inc.); Pokagon Band of Potawatomi Indians, Michigan and Indiana; Saginaw Chippewa Indian Tribe of Michigan; Sault Ste. Marie Tribe of Chippewa Indians, Michigan; and the Wyandotte Nation that this notice has been published.

Dated: June 17, 2016.
Melanie O'Brien,
Manager, National NAGPRA Program.

[FR Doc. 2016-15840 Filed 7-1-16; 8:45 am]

BILLING CODE 4312-50-P